DEPARTMENT OF HEALTH AND HUMAN SERVICES

National Institutes of Health

National Cancer Institute; Notice of Meeting

Pursuant to section 10(a) of the Federal Advisory Committee Act, as amended (5 U.S.C. App.), notice is hereby given of a meeting of the National Cancer Institute Director's Consumer Liaison Group.

The meeting will be open to the public, with attendance limited to space available. Individuals who plan to attend and need special assistance, such as sign language interpretation or other reasonable accommodations, should notify the Contact Person listed below in advance of the meeting.

Name of Committee: National Cancer Institute Director's Consumer Liaison Group; DCLG.

Date: February 22-23, 2011.

Time: February 22, 2011, 9 a.m. to 5 p.m.

Agenda: Welcome, Challenges to Data Standardization in Research, Data Collection for Research in Clinical Settings, Consent Practices for the Personal Genome Project, Case Studies of Alternative Models to Consent for Research.

Place: Hyatt Regency Bethesda, One Bethesda Metro Center, 7400 Wisconsin Avenue, Bethesda, MD 20814.

Time: February 23, 2011, 9 a.m. to 5 p.m.

Agenda: NCI Leadership Report, Update on NCI Cooperative Group Transformation, Board Discussion About the Role of Patients in Data Sharing and Impacts on Research Consent Practices.

Place: Hyatt Regency Bethesda, One Bethesda Metro Center, 7400 Wisconsin Avenue, Bethesda, MD 20814.

Contact Person: Benjamin Carollo, MPA, Advocacy Relations Manager, Office Of Advocacy Relations, Building 31, Room 10A30, 31 Center Drive, MSC 2580, National Cancer Institute, NIH, DHHS, Bethesda, MD 20892-2580, 301-496-0307, CAROLLOB@MAIL.NIH.GOV.

This notice is being published less than 15 days prior to the meeting due to scheduling conflicts.

Information is also available on the Institute's/Center's home page: deainfo.nci.nih.gov/advisory/dclg/dclg.htm, where an agenda and any additional information for the meeting will be posted when available.

(Catalogue of Federal Domestic Assistance Program Nos. 93.392, Cancer Construction; 93.393, Cancer Cause and Prevention Research; 93.394, Cancer Detection and Diagnosis Research; 93.395, Cancer Treatment Research; 93.396, Cancer Biology Research; 93.397, Cancer Centers Support; 93.398, Cancer Research Manpower; 93.399, Cancer Control, National Institutes of Health, HHS)

Dated: February 7, 2011.
Jennifer S. Spaeth,
Director, Office of Federal Advisory Committee Policy.

[FR Doc. 2011-3106 Filed 2-10-11; 8:45 am]

BILLING CODE 4140-01-P